DEPARTMENT OF COMMERCE

International Trade Administration

[C-570-161, C-533-923]

2,4-Dichlorophenoxyacetic Acid From the People's Republic of China and India: Postponement of Preliminary Determinations in the Countervailing Duty Investigations

AGENCY: Enforcement and Compliance, International Trade Administration, Department of Commerce.

DATES: Applicable June 10, 2024.

FOR FURTHER INFORMATION CONTACT: Claudia Cott (the People's Republic of China) and Frank Schmitt (India), AD/CVD Operations, Offices I and VI, Enforcement and Compliance, International Trade Administration, U.S. Department of Commerce, 1401 Constitution Avenue NW, Washington, DC 20230; telephone: (202) 482-4270 and (202) 482-4880, respectively.

SUPPLEMENTARY INFORMATION:

Background

On April 23, 2024, the U.S. Department of Commerce (Commerce) initiated countervailing duty (CVD) investigations of imports of 2,4-dichlorophenoxyacetic acid (2,4-D) from China and India.¹ Currently, the preliminary determinations are due no later than June 27, 2024.

¹ See 2,4-Dichlorophenoxyacetic Acid from the People's Republic of China and India: Initiation of Countervailing Duty Investigations, 89 FR 34205 (April 30, 2024).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is Corteva Agriscience LLC.

On May 24, 2024, the petitioner submitted a timely request that Commerce postpone the preliminary CVD determinations.³ The petitioner stated that it requests postponement for Commerce to receive initial responses, issue supplemental questionnaires as needed, develop the records regarding potential deficiencies, and prepare the preliminary determinations.⁴

³ See Petitioner's Letter, “Request For Extension Preliminary Determination Deadline,” dated May 24, 2024.

⁴ Id.

In accordance with 19 CFR 351.205(e), the petitioner has stated the reasons for requesting a postponement of the preliminary determination, and Commerce finds no compelling reason to deny the request. Therefore, in accordance with section 703(c)(1)(A) of the Act, Commerce is postponing the deadline for the preliminary determinations to no later than 130 days after the date on which these investigations were initiated, i.e., September 3, 2024.⁵ Pursuant to section 705(a)(1) of the Act and 19 CFR 351.210(b)(1), the deadline for the final determinations of these investigations will continue to be 75 days after the date of the preliminary determinations.

⁵ Postponing the preliminary determinations to 130 days after initiation would place the deadline on Saturday, August 31, 2024, and Monday, September 2, 2024, is a federal holiday. Commerce's practice dictates that, where a deadline falls on a weekend or federal holiday, the appropriate deadline is the next business day, i.e., Tuesday, September 3, 2024. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: June 4, 2024.
Ryan Majerus,
Deputy Assistant Secretary for Policy and Negotiations, performing the non-exclusive functions and duties of the Assistant Secretary for Enforcement and Compliance.

[FR Doc. 2024-12608 Filed 6-7-24; 8:45 am]

BILLING CODE 3510-DS-P